DEPARTMENT OF ENERGY

Federal Energy Regulatory Commission

[Docket No. RP00-622-001]

El Paso Natural Gas Company; Notice of Compliance Filing

November 28, 2000.

Take notice that on November 22, 2000, El Paso Natural Gas Company (El Paso) tendered for filing to become part of its FERC Gas Tariff, Second Revised Volume No. 1-A, the following tariff sheets, with an effective date of November 1, 2000:

Substitute Second Revised Sheet No. 270

Substitute Second Revised Sheet No. 284

El Paso states that is being filed compliance with the Commission's order issued October 27, 2000 at Docket No. RM96-1-014, et al.

El Paso states that the tariff sheets are being filed to revise imbalance netting and trading tariff provisions in compliance with the Commission's order in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30740 Filed 12-1-00; 8:45 am]

BILLING CODE 6717-01-M